INTERNATIONAL TRADE COMMISSION

[Investigation No. 337-TA-1309]

Certain Core Orientation Systems, Products Containing Core Orientation Systems, Components Thereof, and Methods of Using the Same; Institution of Investigation

AGENCY: U.S. International Trade Commission.

ACTION: Notice.

SUMMARY: Notice is hereby given that a complaint was filed with the U.S. International Trade Commission on March 1, 2022, under section 337 of the Tariff Act of 1930, as amended, on behalf of Australian Mud Company Pty Ltd. of Australia and Reflex USA LLC of Chandler, Arizona. A supplement was filed on March 9, 2022. The complaint, as supplemented, alleges violations of section 337 based upon the importation into the United States, the sale for importation, and the sale within the United States after importation of certain core orientation systems, products containing core orientation systems, components thereof, and methods of using the same by reason of infringement of certain claims of U.S. Patent No. 7,584,055 (“the '055 patent”). The complaint further alleges that an industry in the United States exists or is in the process of being established as required by the applicable Federal Statute. The complainants request that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on March 30, 2022, ordered that —

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 16-18, 22, and 23 of the '055 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “products and systems for determining the orientation of a core that is drilled from the earth, components thereof (e.g. down hole tools and devices, handheld devices, and other components included in core orientation kits), and products containing the same (e.g. core drills and inner tube assemblies)”;

(3) For the purpose of the investigation so instituted, the following are hereby named as parties upon which this notice of investigation shall be served:

(a) The complainants are:

Australian Mud Company Pty Ltd., 216 Balcatta Road, Balcatta, Western Australia 6021, Telephone: +61 (0) 8 9445 4020

Reflex USA LLC, 2250 E Germann Road, Suite 3, Chandler, Arizona 85286

(b) The respondents are the following entities alleged to be in violation of section 337, and are the parties upon which the complaint is to be served:

Boart Longyear Group Ltd., 2455 South 3600 West, West Valley City, UT 84119

Boart Longyear Limited, 26 Butler Boulevard, Burbridge Business Park, Adelaide Airport, South Australia 5950, Australia

Boart Longyear Company, 2455 South 3600 West, West Valley City, UT 84119

Boart Longyear Manufacturing and Distribution Inc., 2455 South 3600 West, West Valley City, UT 84119

Longyear TM, Inc., 2455 South 3600 West, West Valley City, UT 84119

Globaltech Corporation Pty Ltd., 833 Abernethy Road, Forrestfield, Western Australia 6058, Australia

Globaltech Pty Ltd., 833 Abernethy Road, Forrestfield, Western Australia 6058, Australia

Granite Construction Incorporated, 585 West Beach Street, Watsonville, California 95076

International Directional Services LLC, 12030 East Riggs Road, Chandler, Arizona 85249

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or cease and desist orders or both directed against the respondents.

By order of the Commission.
Issued: March 30, 2022.
Lisa Barton,
Secretary to the Commission.

[FR Doc. 2022-07098 Filed 4-4-22; 8:45 am]

BILLING CODE 7020-02-P